COMMITTEE FOR PURCHASE FROM PEOPLE WHO ARE BLIND OR SEVERELY DISABLED

Procurement List Additions and Deletions

AGENCY: Committee for Purchase From People Who Are Blind or Severely Disabled.

ACTION: Additions to and deletions from procurement list.

SUMMARY: This action adds to the Procurement List products and services to be furnished by nonprofit agencies employing persons who are blind or have other severe disabilities, and deletes from the Procurement List products previously furnished by such agencies.

DATES: Effective Date: 8/10/2009.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 4/10/2009, 5/8/2009 and 5/15/2009, the Committee for Purchase From People Who Are Blind or Severely Disabled published notices (74 FR 16367-8; 74 FR 21661-2; 74 FR 22891-2 respectively) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 7105-00-NIB-0013—Table, Folding Legs 30Wx72Lx29H.

NSN: 7105-00-NIB-0015—Chair, Folding, Platinum.

NSN: 7105-00-NIB-0016—Table, Folding Legs 30Wx96Lx29H.

NSN: 7105-00-NIB-0017—Table, Folding Legs 24Wx48Lx29H.

NPA: MidWest Enterprises for the Blind, Inc., Kalamazoo, MI.

Contracting Activity: Federal Acquisition Service, GSA/FSS Household and Industrial Furniture, Arlington, VA.

Coverage: B-list for the broad Government requirement as specified by the General Services Administration.

NSN: 1670-01-529-1202—LCADS High Velocity Parachute.

NPA: Winston-Salem Industries for the Blind, Winston-Salem, NC.

Contracting Activity: DEPT OF THE ARMY, XR W6BA ACA NATICK, NATICK, MA.

Coverage: C-List for 33% of total allocation over 5 years for the Department of the Army, Natick, MA.

NSN: 7510-00-NIB-0858—Tape, Duct.

NSN: 7510-00-NIB-0859—Tape, Duct.

NSN: 7510-00-NIB-0860—Tape, Painters.

NSN: 7510-00-NIB-0910—Tape, Painters.

NSN: 7510-00-NIB-0911—Tape, Painters.

NPA: Cincinnati Association for the Blind, Cincinnati, OH.

Contracting Activity: Federal Acquisition Service, GSA/FSS OFC SUP CTR—Paper Products, New York, NY.

Coverage: A-list for the total Government requirement as aggregated by the General Services Administration.

NSN: 5120-00-878-5932.

NPA: The Lighthouse for the Blind, Inc. (Seattle Lighthouse), Seattle, WA.

Contracting Activity: Federal Acquisition Service, GSA/FSS Tools Acquisition Division I, Kansas City, MO.

Coverage: B-list for the broad Government requirement as aggregated by the General Services Administration.

NSN: MR 489—Soy Candle, 9.4 oz Vanilla.

NSN: MR 490—Soy Candle, 9.4 oz Berry Blaster.

NSN: MR 491—Soy Candle, 9.4 oz Ocean.

NSN: MR 492—Soy Candle, 9.4 oz Lily.

NSN: MR 493—Soy Candle, 3.7 oz Vanilla.

NSN: MR 494—Soy Candle, 3.7 oz Berry Blaster.

NSN: MR 495—Soy Candle, 3.7 oz Ocean.

NSN: MR 496—Soy Candle, 3.7 oz Lily.

NPA: Industries for the Blind, Inc., West Allis, WI.

Contracting Activity: Military Resale-Defense Commissary Agency, Fort Lee, VA.

Services

Service Type/Location: Custodial Services, J. Caleb Boggs Courthouse & Federal Building, 844 N. King Street, Wilmington, DE.

J. Allen Frear Federal Building, 300 South New Street, Dover, DE.

Bridgeton SSA Office, 149 West Broad Street, Bridgeton, NJ.

NPA: Opportunity Center, Incorporated, Wilmington, DE.

Contracting Activity: Public Buildings Service, GSA/PBS/R03 Philatlantic, Philadelphia, PA.

Service Type/Location: Relamping of Lighting Fixtures, Naval Hospital Bremerton, 1 Boone Road, Bremerton, WA.

NPA: Skookum Educational Programs, Bremerton, WA.

Contracting Activity: Dept of the Navy, Engineering Field Activity, Poulsbo, WA.

Service Type/Location: Custodial Service, Camp Bullis Buildings 6282 and 6287, 6929 Camp Bullis Rd., Camp Bullis, TX.

NPA: Professional Contract Services, Inc., Austin, TX.

Contracting Activity: Dept of the Army, XR W6BB ACA Sam Houston, Fort Sam Houston, TX.

Service Type/Location: Custodial Services, VA Midsouth CMOP, 5171 Sam Jared Drive, Murfreesboro, TN.

NPA: Bobby Dodd Institute, Inc., Atlanta, GA.

Contracting Activity: Veterans Affairs, Department of, CMOP National Contracting, Leavenworth, KS.

Service Type/Location: Grounds Maintenance Services, U.S. Forest Service Northern CA Service Center, 6101 Airport Road, Redding, CA.

NPA: Shasta County Opportunity Center, Redding, CA.

Contracting Activity: Forest Service, North Zone Fire Cache, Redding, CA.

Deletions

On 5/1/2009, the Committee for Purchase From People Who Are Blind or Severely Disabled published notice (74 FR 83, pages 20290-1) of proposed deletions from the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

NSN: 8410-00-NSH-0025—Protective Worksuit, General Purpose.

NSN: 8410-00-NSH-0026—Protective Worksuit, General Purpose.

NSN: 8410-00-NSH-0027—Protective Worksuit, General Purpose.

NSN: 8410-00-NSH-0028—Protective Worksuit, General Purpose.

NSN: 8410-00-NSH-0029—Protective Worksuit, General Purpose.

NSN: 8410-00-NSH-0030—Protective Worksuit, General Purpose.

NSN: 8410-00-NSH-0031—Protective Worksuit, General Purpose.

NSN: 8410-00-NSH-0032—Protective Worksuit, General Purpose.

NSN: 8410-00-NSH-0125—Protective Worksuit, General Purpose.

NSN: 8410-00-NSH-0126—Protective Worksuit, General Purpose.

NSN: 8410-00-NSH-0127—Protective Worksuit, General Purpose.

NSN: 8410-00-NSH-0128—Protective Worksuit, General Purpose.

NSN: 8410-00-NSH-0129—Protective Worksuit, General Purpose.

NSN: 8410-00-NSH-0130—Protective Worksuit, General Purpose.

NSN: 8410-00-NSH-0131—Protective Worksuit, General Purpose.

NSN: 8410-00-NSH-0132—Protective Worksuit, General Purpose.

NSN: 8410-00-NSH-0225—Protective Worksuit, General Purpose.

NSN: 8410-00-NSH-0226—Protective Worksuit, General Purpose.

NSN: 8410-00-NSH-0227—Protective Worksuit, General Purpose.

NSN: 8410-00-NSH-0228—Protective Worksuit, General Purpose.

NSN: 8410-00-NSH-0229—Protective Worksuit, General Purpose.

NSN: 8410-00-NSH-0230—Protective Worksuit, General Purpose.

NSN: 8410-00-NSH-0231—Protective Worksuit, General Purpose.

NSN: 8410-00-NSH-0232—Protective Worksuit, General Purpose.

NSN: 8410-00-NSH-0325—Protective Worksuit, General Purpose.

NSN: 8410-00-NSH-0326—Protective Worksuit, General Purpose.

NSN: 8410-00-NSH-0327—Protective Worksuit, General Purpose.

NSN: 8410-00-NSH-0328—Protective Worksuit, General Purpose.

NSN: 8410-00-NSH-0329—Protective Worksuit, General Purpose.

NSN: 8410-00-NSH-0330—Protective Worksuit, General Purpose.

NSN: 8410-00-NSH-0331—Protective Worksuit, General Purpose.

NSN: 8410-00-NSH-0332—Protective Worksuit, General Purpose.

NSN: 8410-00-NSH-0425—Protective Worksuit, General Purpose.

NSN: 8410-00-NSH-0426—Protective Worksuit, General Purpose.

NSN: 8410-00-NSH-0427—Protective Worksuit, General Purpose.

NSN: 8410-00-NSH-0428—Protective Worksuit, General Purpose.

NSN: 8410-00-NSH-0429—Protective Worksuit, General Purpose.

NSN: 8410-00-NSH-0430—Protective Worksuit, General Purpose.

NSN: 8410-00-NSH-0431—Protective Worksuit, General Purpose.

NSN: 8410-00-NSH-0432—Protective Worksuit, General Purpose.

NSN: 8410-00-NSH-0532—Protective Worksuit, General Purpose.

NSN: 8410-00-NSH-0632—Protective Worksuit, General Purpose.

NSN: 8410-00-NSH-0732—Protective Worksuit, General Purpose.

NSN: 8410-00-NSH-0832—Protective Worksuit, General Purpose.

NSN: 8410-00-NSH-0932—Protective Worksuit, General Purpose.

NSN: 8410-00-NSH-1032—Protective Worksuit, General Purpose.

NSN: 8410-00-NSH-1132—Protective Worksuit, General Purpose.

NSN: 8410-00-NSH-1232—Protective Worksuit, General Purpose.

NSN: 8410-00-NSH-1332—Protective Worksuit, General Purpose.

NSN: 8410-00-NSH-1432—Protective Worksuit, General Purpose.

NSN: 8410-00-NSH-1532—Protective Worksuit, General Purpose.

NSN: 8410-00-NSH-1632—Protective Worksuit, General Purpose.

NSN: 8410-00-NSH-1732—Protective Worksuit, General Purpose.

NSN: 8410-00-NSH-1832—Protective Worksuit, General Purpose.

NSN: 8410-00-NSH-1932—Protective Worksuit, General Purpose.

NSN: 8410-00-NSH-2032—Protective Worksuit, General Purpose.

NSN: 8410-00-NSH-2132—Protective Worksuit, General Purpose.

NSN: 8410-00-NSH-2232—Protective Worksuit, General Purpose.

NSN: 8410-00-NSH-2332—Protective Worksuit, General Purpose.

NSN: 8410-00-NSH-2432—Protective Worksuit, General Purpose.

NSN: 8410-00-NSH-2532—Protective Worksuit, General Purpose.

NSN: 8410-00-NSH-2632—Protective Worksuit, General Purpose,

NSN: 8410-00-NSH-2732—Protective Worksuit, General Purpose,

NSN: 8410-00-NSH-2832—Protective Worksuit, General Purpose,

NSN: 8410-00-NSH-2932—Protective Worksuit, General Purpose,

NSN: 8410-00-NSH-3032—Protective Worksuit, General Purpose,

NSN: 8410-00-NSH-3132—Protective Worksuit, General Purpose,

NSN: 8410-00-NSH-3232—Protective Worksuit, General Purpose,

NSN: 8410-00-NSH-3332—Protective Worksuit, General Purpose,

NSN: 8410-00-NSH-3432—Protective Worksuit, General Purpose,

NSN: 8410-00-NSH-3532—Protective Worksuit, General Purpose,

NSN: 8410-00-NSH-3632—Protective Worksuit, General Purpose,

NSN: 8410-00-NSH-3732—Protective Worksuit, General Purpose,

NSN: 8410-00-NSH-3832—Protective Worksuit, General Purpose,

NSN: 8410-00-NSH-3932—Protective Worksuit, General Purpose,

NSN: 8410-00-NSH-4032—Protective Worksuit, General Purpose,

NSN: 8410-00-NSH-4132—Protective Worksuit, General Purpose,

NSN: 8410-00-NSH-4232—Protective Worksuit, General Purpose,

NSN: 8410-00-NSH-4332—Protective Worksuit, General Purpose,

NSN: 8410-00-NSH-4432—Protective Worksuit, General Purpose,

NSN: 8410-00-NSH-4532—Protective Worksuit, General Purpose,

NSN: 8410-00-NSH-4632—Protective Worksuit, General Purpose,

NSN: 8410-00-NSH-4732—Protective Worksuit, General Purpose,

NSN: 8410-00-NSH-4832—Protective Worksuit, General Purpose,

NSN: 8410-00-NSH-4932—Protective Worksuit, General Purpose,

NSN: 8410-00-NSH-5032—Protective Worksuit, General Purpose,

NSN: 8410-00-NSH-5132—Protective Worksuit, General Purpose,

NSN: 8410-00-NSH-5232—Protective Worksuit, General Purpose,

NSN: 8410-00-NSH-5332—Protective Worksuit, General Purpose,

NSN: 8410-00-NSH-5432—Protective Worksuit, General Purpose,

NSN: 8410-00-NSH-5532—Protective Worksuit, General Purpose,

NSN: 8410-00-NSH-5632—Protective Worksuit, General Purpose,

NSN: 8410-00-NSH-5732—Protective Worksuit, General Purpose,

NSN: 8410-00-NSH-5832—Protective Worksuit, General Purpose,

NSN: 8410-00-NSH-5932—Protective Worksuit, General Purpose.

NPA: Association for Retarded Citizens of Baldwin County, Inc., Loxley, AL.

Contracting Activity: GSA/FAS Southwest Supply Center (QSDAC), Fort Worth, TX.

Barry S. Lineback,
Director, Business Operations.

[FR Doc. E9-16312 Filed 7-9-09; 8:45 am]

BILLING CODE 6353-01-P